DEPARTMENT OF COMMERCE

National Oceanic and Atmospheric Administration

RIN 0648-XD255

Mid-Atlantic Fishery Management Council; Public Meeting

AGENCY: National Marine Fisheries Service (NMFS), National Oceanic and Atmospheric Administration (NOAA), Commerce.

ACTION: Notice of a public meeting.

SUMMARY: The Mid-Atlantic Council (Mid-Atlantic Council) will host a meeting of the Council Coordination Committee (CCC) consisting of the eight Regional Fishery Management Council (RFMC) chairs, vice chairs, and executive directors and its subcommittees in May 2014. The intent of this meeting is to discuss issues of relevance to the Councils, including: budget issues, MSA reauthorization, habitat issues, allocation working group report, bycatch and IUU certification, climate change, enforcement activities, Council Operational Guidelines, other topics of concern to the RFMC, and decisions and follow-up activities.

DATES: The meeting will be held May 12-15, 2014. Registration for the meeting will begin at 3 p.m. on Monday, May 12, 2014. The substantive meeting topics begin at 10 a.m. on Tuesday, May 13th and recess at 5:30 p.m. or when business is complete. The meeting will reconvene at 9 a.m. on Wednesday, May 14, 2014 and recess at 5 p.m. or when business is complete. The meeting will reconvene on the final day at 9 a.m. on Thursday, May 15, 2014 and adjourn by 1 p.m. or when business is complete.

ADDRESSES: The meeting will be held at the Hilton Virginia Beach Oceanfront, 3001 Atlantic Avenue, Virginia Beach, VA 23451; telephone: (757) 213-3000.

Council address: 800 North State Street, Suite 201, Dover, DE 19901-3910.

FOR FURTHER INFORMATION CONTACT: Dr. Christopher Moore, Executive Director; telephone: (302) 674-2331 or (877) 446-2362 toll free; or access the Mid-Atlantic Council Web site at www.mafmc.org for the current meeting location, proposed agenda, and meeting briefing materials.

SUPPLEMENTARY INFORMATION: The Magnuson-Stevens Fishery Conservation and Management Reauthorization Act (MSA) of 2006 established the CCC by amending Section 302 (16 U.S.C. 1852) of the MSA. The committee consists of the chairs, vice chairs, and executive directors of each of the eight Regional Fishery Management Councils authorized by the MSA or other Council members or staff. The Web site (found at www.mafmc.org) has materials relevant to the discussions at the CCC meeting.

On Monday, May 12—Registration begins.

On Tuesday, May 13—The meeting will begin with Welcome and Introductions. The discussion on Council Reports will include current activities, future priorities, and additional NOAA resources and support required. There will be a discussion on NOAA Structure and Relationship to the Councils. The Budget for 2014 and 2015 will be discussed along with SK Funding. The Habitat discussion will include NMFS and Council activities, identifying habitat objectives, and linking habitat to fishery productivity.

On Wednesday, May 14—MSA Reauthorization will be discussed to include legislative updates and working group report, discussion, and actions. Allocation Working Group Report and Actions will be discussed. Bycatch will be discussed to include an Oceana report, NMFS position, and the Council and CCC response. The 2015 IUU Certification Report will be discussed to include the use of the new 2013 IUU definition. Climate Change and Fisheries will be discussed to include science, management, and governance. NOAA Recreational Summit—what's next, will be discussed.

On Thursday, May 15—NMFS OLE and USCG Enforcement Activities will be discussed by region for 2011, 2012, and 2013. The next steps for Operational Guidelines will be discussed. Science Issues will be discussed to include the National Science and Statistical Committee and stock Assessment prioritization. An Electronic Technologies Initiative Update will be discussed. Future CCC meeting will be discussed to include meeting dates and a February webinar. The meeting will close with any New Business, Additional Items, and Wrap Up

The timing and order in which agenda items are addressed may change as required to effectively address the issues. The CCC will meet as late as necessary to complete scheduled business.

Special Accommodations

The meeting is physically accessible to people with disabilities. Requests for sign language interpretation or other auxiliary aids should be directed to Jan Saunders at (302) 526-5251 at least 5 days prior to the meeting date.

Dated: April 21, 2014.
William D. Chappell,
Acting Deputy Director, Office of Sustainable Fisheries, National Marine Fisheries Service.

[FR Doc. 2014-09371 Filed 4-24-14; 8:45 am]

BILLING CODE 3510-22-P